ENVIRONMENTAL PROTECTION AGENCY

[EPA-HQ-OARM-2014-0058; FRL—9912-96-OEI]

Information Collection Request Submitted to OMB for Review and Approval; Comment Request; Contractor Conflicts of Interest (Renewal)

AGENCY: Environmental Protection Agency (EPA).

ACTION: Notice.

SUMMARY: The Environmental Protection Agency is planning to submit an information collection request (ICR), “Contractor Conflicts of Interest (Renewal)” (EPA ICR No. 1550.10, OMB Control No. 2030-0023) to the Office of Management and Budget (OMB) for review and approval in accordance with the Paperwork Reduction Act (44 U.S.C. 3501 et seq.). This is a proposed extension of the ICR, which is currently approved through August 31, 2014. Public comments were previously requested via the Federal Register (79 FR 11783) on March 3, 2014, during a 60-day comment period. This notice allows for an additional 30 days for public comments. A more comprehensive description of the ICR is given below, including its estimated burden and cost to the public. An Agency may not conduct or sponsor and a person is not required to respond to a collection of information unless it displays a currently valid OMB control number.

DATES: Additional comments may be submitted on or before September 8, 2014.

ADDRESSES: Submit your comments, identified by Docket ID No. EPA-HQ-OARM-2014-0058, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Daniel Humphries, Policy, Training, and Oversight Division, Acquisition Policy and Training Service Center (3802R), Environmental Protection Agency, 1200 Pennsylvania Avenue NW., Washington, DC 20460; telephone number: (202) 564-4377; email address: Humphries.daniel@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA contractors will be required to disclose business relationships and corporate affiliations to determine whether EPA's interests are jeopardized by such relationships (40 CFR part 486(c). Because EPA has the dual responsibility of cleanup and enforcement and because its contractors are often involved in both activities, it is imperative that contractors are free from conflicts of interest so as not to prejudice response and enforcement actions. Contractors will be required to maintain a database of business relationships and report information to EPA on either an annual basis or when each work order is issued.

ICR numbers: EPA ICR No. 1550.10, OMB Control No. 2030-0023.

Form Numbers: None.

Respondents/affected entities: Private businesses or non-profits.

Respondent's obligation to respond: Required to obtain or retain benefits.

Estimated number of respondents: 135 (total).

Frequency of response: On occasion.

Total estimated burden: 164,525 hours (per year). Burden is defined at 5 CFR 1320.03(b).

Total estimated cost: Estimated total annual costs are $10,684,253.50, includes $0 annualized capital or operation & maintenance costs.

Changes in Estimates: There is an increase of 10,899 hours in the total estimated respondent burden compared with the ICR currently approved by OMB. The reason for this change is due to a correction of the calculations for the 10 new respondents.

Spencer Clark,
Acting Director, Collection Strategies Division.

[FR Doc. 2014-18585 Filed 8-6-14; 8:45 am]

BILLING CODE 6560-50-P